DEPARTMENT OF THE INTERIOR

Fish and Wildlife Service

Information Collection Submitted to the Office of Management and Budget (OMB) for Reinstatement Approval Under the Paperwork Reduction Act

AGENCY: Fish and Wildlife Service, Interiors.

ACTION: Notice; request for comments.

SUMMARY: The U.S. Fish and Wildlife Service has submitted the collection of information listed below to OMB for approval under the provisions of the Paperwork Reduction Act. A copy of the information collection requirement is included in this notice. Copies of the proposed information collection requirement, related forms, and explanatory material may be obtained by contacting the Service Information Collection Clearance Officer at the address listed below.

DATES: OMB has up to 60 days to approve or disprove information collection but may respond after 30 days. Therefore, to ensure maximum consideration, you must submit comments on or before April 6, 2001.

ADDRESSES: Comments and suggestions on the requirement should be sent directly to the Office of Information and Regulatory Affairs; Office of Management and Budget; Attention: Desk Officer for the Department of the Interior; 725 17th Street, N.W., Washington, DC 20503; and a copy of the comments should be sent to Rebecca A. Mullin, Service Information Collection Clearance Officer, U.S. Fish and Wildlife Service, 4401 North Fairfax Drive, Mail Stop 224-ARLSQ; Arlington, Virginia 22203.

FOR FURTHER INFORMATION CONTACT: Rebecca A. Mullin, Service Information Collection Clearance Officer at (703) 358-2287, or electronically at rmullin@fws.gov.

SUPPLEMENTARY INFORMATION: The Endangered Species Act (ESA) provides for the protection of listed species through establishment of programs for their recovery and through prohibition of harmful activities. The ESA also provides for a number of exceptions to its prohibitions against “take” of listed species. Under sections 6 and 10 of the ESA, regulations have been promulgated at 50 CFR 17.22 (endangered wildlife species), 17.32 (threatened wildlife species), 17.62 (endangered plant species), and 17.72 (threatened plant species) to guide implementation of these exceptions to the “take” prohibitions through permitting programs. The U.S. Fish and Wildlife Service's general permit regulations can be found at 50 CFR 13. Take authorized under this permit program would otherwise be prohibited by the ESA. The permit issuance criteria are designed to ensure that the requirements of the ESA are met, i.e., that conduct of the requested actions and issuance of the permit will enhance the survival of the species.

The Office of Management and Budget (OMB) regulations at 5 CFR 1320, which implement provisions of the Paperwork Reduction Act of 1995 (Pub. L. 104-13), require that interested members of the public and affected agencies have an opportunity to comment on information collection and recordkeeping activities (see 5 CFR 1320.8(d)). The U.S. Fish and Wildlife Service (We) will submit a request to OMB to renew its existing approval of the collection of information for Native Endangered and Threatened Species Permit Applications, which expires on February 28, 2001. We are requesting a 3-year term of approval for this information collection activity.

A previous 60-day notice on this information collection requirement was published in the Federal Register on December 21, 2000 (65 FR 80449) inviting public comment. No comments on the previous notice were received as of February 20, 2001. This notice provides an additional 30 days in which to comment on the following information.

Federal agencies may not conduct or sponsor, and a person is not required to respond to, a collection of information unless it displays a currently valid OMB control number. The current OMB control number for this collection of information is 1018-0094.

The information collection requirements in this submission implement the regulatory requirements of the Endangered Species Act (16 U.S.C. 1539), the Migratory Bird Treaty Act (16 U.S.C. 704), and the Bald Eagle Protection Act (16 U.S.C. 668) contained in Service regulations in Chapter I, Subchapter B of Title 50 of the Code of Federal Regulations (CFR).

The information to be supplied on the application form and the attachments will be used to review the application and allow the Service to make decisions, according to criteria established in various Federal wildlife conservation statutes and regulations on the issuance, suspension, revocation, or denial of permits. The obligation to respond is, “required to obtain a benefit.” An agency may not conduct or sponsor a collection of information unless the collection of information displays a currently valid OMB control number. We have revised the following requirements, and they are included in this submission:

1. Title: Native Endangered and Threatened Species—Enhancement of Survival Permits associated with Safe Harbor Agreements, and Candidate Conservation Agreements with Assurances.

Approval Number: 1018-0094.

Service Form Number: 3-200-54.

Frequency of Collection: Annually.

Description of Respondents: Individuals, households, businesses, State agencies, private organizations.

Total Annual Burden Hours: The reporting burden is estimated to average 2.5 hours per respondent for the application and 5 hours per respondent for the annual report of permitted activities. The Total Annual Burden hours is 125 hours for the application and 750 hours for the annual report on the permitted activities.

Total Annual Responses: The number of respondents is estimated to average 50 respondents for the application and 150 for the annual report of the permitted activities.

Regulations have been promulgated at 17.22(c) and (d) for endangered wildlife species and 17.32(c) and (d) for threatened wildlife species to guide implementation of these permitting programs for Enhancement of Survival permits associated with Safe Harbor Agreements and with Candidate Conservation Agreements with Assurances under section 10(a)(1)(A) of the ESA. Service form 3-200-54 was developed to facilitate collection of information required by these regulations.

An Enhancement of Survival permit authorizes incidental take that may occur under the Safe Harbor Agreement or Candidate Conservation Agreement with Assurances. Under the Safe Harbor policy, non-Federal property owners who voluntarily enter into a Safe Harbor Agreement for implementation of conservation measures for listed species will receive assurances from the Service that additional regulatory restrictions will not be imposed beyond those existing at the time of the Agreement. Under the Candidate Conservation Agreements with Assurances policy, non-Federal property owners who voluntarily enter into such an Agreement for implementation of conservation measures for species proposed for listing, species that are candidates for listing, or species that are likely to become candidates in the near future will receive assurances from the Service that additional conservation measures will not be required and additional regulatory restrictions will not be imposed should the species become listed in the future.

2. Title: Native Endangered and Threatened Species—Permits for Scientific Purposes, Enhancement of Propagation or Survival (i.e., Recovery Permits) and Interstate Commerce

Approval Number: 1018-0094.

Service Form Number: 3-200-55.

Frequency of Collection: Annually.

Description of Respondents: Individuals, scientific and research institutions.

Total Annual Burden Hours: The reporting burden is estimated to average 2 hours per respondent for the application and 2 hours per respondent for the annual report on the permitted activities. The Total Annual Burden hours is 1,050 hours for the application and 200 hours for the annual report on the permitted activities.

Total Annual Responses: The number of respondents is estimated to average 525 respondents for the application and 100 respondents for the annual report of the permitted activities.

Regulations have been promulgated at 17.22(a) for endangered wildlife species, 17.32(a) for threatened wildlife species, 17.62 for endangered plant species, and 17.72 for threatened plant species to guide implementation of these permitting programs for Recovery and Interstate Commerce permits under section 10(a)(1)(A) of the ESA. Service form 3-200-55 was developed to facilitate collection of information required by these regulations. Recovery permits allow “take” of listed species as part of scientific research and management actions, enhancement of propagation or survival, zoological exhibition, educational purposes, or special purposes consistent with the ESA designed to benefit the species involved. Interstate Commerce permits allow transport and sale of listed species across State lines as part of breeding programs enhancing the survival of the species. Detailed descriptions of the proposed taking, its necessities for success of the proposed action, and benefits to the species resulting from the proposed action are required under the implementing regulations cited above.

3. Title: Native Endangered and Threatened Species—Incidental Take Permits Associated With a Habitat Conservation Plan

Approval Number: 1018-0094.

Service Form Number: 3-200-56.

Frequency of Collection: Annually.

Description of Respondents: Individuals, households, businesses, local and State agencies.

Total Annual Burden Hours: The reporting burden is estimated to average 2.5 hours per respondent for the application and 5 hours per respondent for the annual report on the permitted activities. The Total Annual Burden hours is 250 hours for the application and 1,750 hours for the annual report on the permitted activities.

Total Annual Responses: The number of respondents is estimated to be 100 respondents for the application and 350 respondents for the annual report of the permitted activities.

Regulations have been promulgated at 17.22(b) for endangered wildlife species and 17.32(b) for threatened wildlife species to guide implementation of these permitting programs for Incidental Take permits associated with a Habitat Conservation Plan under section 10(a)(1)(B) of the ESA. Form number 3-200-56 was developed to facilitate collection of information required by these regulations. These permits allow “take” of listed species that is incidental to otherwise lawful non-Federal actions. The Service's Incidental Take permit program provides a flexible process for addressing situations in which a property owner's otherwise lawful activities might result in incidental take of a listed species. The Incidental Take permit program's major strength is that it provides a process that readily allows the development of local solutions to wildlife conservation as an alternative to comprehensive federal regulation. Local entities and private landowners are given assurances that they will not be required to make additional commitments of land, water, or money; or be subject to additional restrictions on the use of land, water, or other natural resources for species adequately covered by a properly implemented Habitat Conservation Plan.

We invite comments concerning this renewal on: (1) whether the collection of information is necessary for the proper performance of our endangered and threatened species management functions, including whether the information will have practical utility; (2) the accuracy of our estimate of the burden of the collection of information; (3) ways to enhance the quality, utility, and clarity of the information to be collected; and, (4) ways to minimize the burden of the collection of information on respondents. The information collections in this program are part of a system of records covered by the Privacy Act (5 U.S.C. 552(a)).

Dated: February 23, 2001
Jack Kraus,
Chief, Division of Policy and Directives, Management.

[FR Doc. 01-5552 Filed 3-6-01; 8:45 am]

BILLING CODE 4310-55-P